DEPARTMENT OF TRANSPORTATION

National Highway Traffic Safety Administration

[Docket No. NHTSA NHTSA-2022-0060]

Agency Information Collection Activities; Notice and Request for Comment; Importation of Vehicles and Equipment Subject to the Federal Motor Vehicle Safety, Bumper, and Theft Prevention Standards

AGENCY: National Highway Traffic Safety Administration (NHTSA), Department of Transportation (DOT).

ACTION: Notice and request for comments on a revision of currently approved information collection request.

SUMMARY: NHTSA invites public comments about our intention to request approval from the Office of Management and Budget (OMB) for a revision of a currently approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval regarding importation of vehicles and equipment subject to the Federal motor vehicle safety, bumper, and theft prevention standards.

DATES: Comments must be submitted on or before September 12, 2022.

ADDRESSES: You may submit comments identified by the Docket No. NHTSA-2022-XXXX through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Neil Thurgood, Office of Vehicle Safety Compliance (NEF-230), National Highway Traffic Safety Administration, West Building—4th Floor—Room W45-205, 1200 New Jersey Avenue SE, Washington, DC 20590. Mr. Thurgood's telephone number is (202) 366-0712. Please identify the relevant collection of information by referring to its OMB Control Number (2127-0002).

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Importation of Vehicles and Equipment Subject to the Federal Motor Vehicle Safety, Bumper, and Theft Prevention Standards.

OMB Control Number: 2127-0002.

Form Number(s): HS-7, HS-474, NHTSA Form 1481, NHTSA Form 1482, NHTSA Form 1483, NHTSA Form 1484.

Type of Request: Revision.

Type of Review Requested: Regular.

Requested Expiration Date of Approval: 3 years from date of approval.

Summary of the Collection of Information:

This information collection request covers various collections needed for the administration of NHTSA's regulations governing the importation of motor vehicle and motor vehicle equipment. This information collection includes the declaration form required for the importation of all motor vehicles and regulated items of motor vehicle equipment and related information requests as well as information requirements for Registered Importers (RIs).

Description of the Need for the Information and Proposed Use of the Information: This information collections described in this document are necessary to ensure that motor vehicles and items of motor vehicle equipment subject to the Federal motor vehicle safety, bumper and theft prevention standards are lawfully imported into the United States. The primary component of this information collection is the declaration requirement for the importation of motor vehicles and items of motor vehicle equipment. NHTSA's regulations at 49 CFR part 591 provide that no person shall import a motor vehicle or regulated item of motor vehicle equipment [e.g., tires, glazing, seat belts, etc.] unless the importer files a declaration.¹ To be lawfully imported, the vehicle or equipment item must be covered by one of the boxes on the HS-7 Declaration form and the importer must declare, subject to penalty for making false statements, that the vehicle or equipment item is entitled to entry under the conditions specified on the form, including the provision of any supporting information or materials that may be required. This declaration is filed with U.S. Customs and Border Protection (Customs) on a paper copy of the HS-7 Declaration form, or, if the entry is made by a Customs House Broker, it can be made electronically using Customs' Automated Broker Interface (ABI) system. The ABI feeds into Custom's Automated Commercial Environment (ACE) system that tracts all of the HS-7 information. The HS-7 Declaration form has 14 boxes, each of which identifies a lawful basis for the importation of a motor vehicle or equipment item into the United States. The regulations require a declaration to be filed (on the HS-7 Declaration Form) at the time a vehicle or item of motor vehicle equipment is imported that identifies, among other things, whether the vehicle or item of equipment was originally manufactured to conform to all applicable FMVSS, and if it was not, to state the basis for the importation of the vehicle or item of equipment. In calendar years 2019, 2020, and 2021, there were 14,028,097; 12,509,672; and 12,754,348 entries made under HS-7 Declarations filed with U.S. Customs and Border Protection, respectively.

¹ 49 CFR 591.5.

In addition to the declarations, entries made under certain boxes on the HS-7 form are required to be accompanied by additional information. In some cases, the additional information is an additional form or statement accompanying the HS-7 form. However, in other cases, the entry can only be made after NHTSA has reviewed and approved an application or granted a petition, such as the petitions related to entry under NHTSA's Registered Importer program.

As described in detail below, this request also covers several information collections related to the Registered Importer program. NHTSA relies on this information when approving and renewing RI registrations to better ensure that RIs are meeting their obligations under the statutes and regulations governing the importation of nonconforming vehicles and to allow the agency to make more informed decisions in conferring RI status on applicants and in permitting RI status to be retained by those currently holding registrations. This information also allows NHTSA to deny those lacking the capability to responsibly provide RI services and take enforcement action, such as suspending or revoking registrations, against RIs that have committed or are associated with those who have committed past violations of the vehicle importation laws.

A more detailed description of this information collection is provided below and is broken down by the 14 boxes on the HS-7 form and the requirements for RIs.

HS-7 Declaration Form: Importation of Motor Vehicles and Motor Vehicle Equipment Subject to the Federal Motor Vehicle Safety, Bumper, and Theft Prevention Standards

1. Box 1: Importation of Vehicles at Least 25 Years Old or Equipment Not Subject to the Safety Standards

Motor vehicles at least 25 years old and items of motor vehicle equipment manufactured on a date when no applicable FMVSS was effect may be lawfully imported without regard to compliance with the FMVSS. These vehicles and equipment items are declared under Box 1 on the HS-7 Declaration form. In calendar years 2019, 2020, and 2021, there were, respectively, 2,515,742; 2,161,035; and 1,696,886 entries made for vehicles and equipment items imported under Box 1. The average for the last three years was 2,124,554.33. Using this estimate, NHTSA estimates that an average of 2,200,000 entries will be made under Box 1 in each of the next three years.

2. Box 2A: Importation of Conforming Vehicles and Equipment

Vehicles and equipment that are originally manufactured to comply with all applicable Federal motor vehicle safety, bumper, and theft prevention standards, and that bear a label or tag certifying such compliance that is permanently affixed by the original manufacturer, are declared under Box 2A on the HS-7 Declaration form. Vehicles that are covered by exemptions under 49 CFR parts 555 and 586 are also imported under Box 2A. In 2019, 2020, and 2021 there were 8,517,969; 7,497,561; and 8,172,429 entries made under Box 2A, respectively. The average number of entries made under Box 2A in the last three years was 8,062,653. Based on this average, NHTSA estimates that number of entries made in each of the next three years under Box 2A will be, on average, 8,100,000.

3. Box 2B: Importation of Conforming Canadian-Market Vehicles for Personal Use

A motor vehicle that is certified by its original manufacturer as complying with all applicable Canadian motor vehicle safety standards can be imported by an individual for personal use under Box 2B. To accomplish the entry, the importer must furnish Customs with a letter from the vehicle's original manufacturer confirming that the vehicle conforms to all applicable U.S. Federal motor vehicle safety, bumper, and theft prevention standards, or that it conforms to all such standards except for the labeling requirements of Standard Nos. 101 Controls and Displays and 110 or 120, Tire Selection and Rims, and/or the requirements of Standard No. 108, Lamps, Reflective Devices, and Associated Equipment, relating to daytime running lamps. In 2019, 2020, and 2020 there were 1,740; 1,919; and 2,553 entries made under Box 2B, respectively. Although the average number of entries for the last three years was 2,070.67 entries per year, the number of Box 2B entries appears to be increasing. Accordingly, NHTSA estimates that, on average, 2,600 entries will be made under Box 2B in each of the next three years. As noted above, entries under Box 2B must be accompanied by a confirmation letter from the manufacturer of the vehicle. Accordingly, NHTSA estimates that in each of the next three years, 2,600 requests will be made to manufacturers for confirmation letters and manufacturers will send 2,600 confirmation letters in response.

4. Box 3: Importation of Nonconforming Vehicles by Registered Importers

A motor vehicle that does not conform to all applicable Federal Motor Vehicle Safety and Bumper Standards, but does conform to applicable Federal Theft Prevention Standards may be imported under Box 3 if NHTSA has determined that the model and model year of the vehicle to be imported is eligible for importation because it can be modified to meet the standards. Generally, the National Traffic and Motor Vehicle Safety Act prohibits the importation into the United States of a motor vehicle manufactured on or after the date an applicable Federal motor vehicle safety standard (FMVSS) takes effect, unless the motor vehicle was manufactured in compliance with the standard and was so certified by its original manufacturer.² Under one of the exceptions to this prohibition, found at 49 U.S.C. 30141, a nonconforming vehicle can be imported into the United States provided (1) NHTSA decides that the vehicle is eligible for importation, based on its capability of being modified to conform to all applicable FMVSS, and (2) it is imported by a registered importer (RI), or by a person who has a contract with an RI to bring the vehicle into conformity with all applicable standards following importation. Regulations implementing this statute are found at 49 CFR parts 591 and 592. There are four information collection components for vehicles imported under Box 3: (1) HS-7 Declaration Forms, (2) HS-474 Conformance Bond Forms; (3) Conformity Packages; and (4) Import Eligibility Petitions.

² 49 U.S.C. 30112(a)(1).

A nonconforming vehicle that NHTSA has decided to be eligible for importation can be imported by an RI, or by a person who has a contract with an RI to modify the vehicle so that it conforms to all applicable FMVSS, under Box 3 on the HS-7 Declaration form. The volume of imports under Box 3 has greatly increased in recent years. In 2019, there were a total of 296,898 entries under Box 3. Of those entries, 298,767 were for Canadian-market vehicles and 131 were for vehicles for sale in other foreign markets. In 2020, there were a total of 228,256 entries under Box 3. Of those entries, 228,138 were for Canadian-market vehicles and 118 were for vehicles for sale in other foreign markets. In 2021, there were a total of 374,105 entries under Box 3. Of those entries, 374,001 were for Canadian-market vehicles and 104 were for vehicles for sale in other foreign markets. Based on these figures, the agency estimates that on average, 300,120 vehicles will be imported each year under Box 3, with 300,000 Canadian-market vehicles being imported and 120 vehicles for other foreign markets being imported. Entries made under Box 3 are required to be accompanied with a copy of the DOT Bond and, if applicable, a copy of the contract with the RI.

a. HS-474 Conformance Bond

NHTSA's regulations also require an RI, among other things, to furnish a bond (on the HS-474 Conformance Bond form) at the time of entry for each nonconforming vehicle it imports, to ensure that the vehicle will be brought into conformity with all applicable safety and bumper standards within 120 days of entry or will be exported from, or abandoned to, the United States. A HS-474 Conformance Bond has to be furnished for each nonconforming vehicle imported under Box 3. Using NHTSA's estimate that, on average, 300,120 vehicles will be imported under Box 3 each year, NHTSA estimates that importers will also complete 300,120 HS-474 forms each year. In addition, the documents required for importation under Box 3, NHTSA also requires a statement of conformity to be submitted for each vehicle that was imported under Box 3.

b. Conformity Package

After modifying the vehicle to conform to all applicable standards, the RI must submit a statement of conformity (NHTSA Form 1484) to NHTSA. After receiving the statement of conformity, NHTSA will issue a letter permitting the bond to be released if the agency is satisfied that the vehicle has been modified in the manner stated by the RI. The statement of conformity contains a check-off list on which the RI identifies the FMVSS and other agency requirements to which the vehicle conforms as originally manufactured and the FMVSS and other requirements to which the vehicle was modified to conform. The RI also attaches to the statement of conformity documentary and photographic evidence of the modifications that it made to the vehicle to achieve conformity with applicable standards. Collectively, these documents are referred to as a “conformity package.” A conformity package must be submitted for each nonconforming vehicle imported under Box 3. Therefore, NHTSA estimates that, on average, 300,120 conformity packages will be submitted each year for vehicles that were imported under Box 3. Each RI must also retain a copy of each conformity package for 10 years.

c. Import Eligibility Petition

As previously noted, a motor vehicle that was not originally manufactured to comply with all applicable FMVSS cannot be lawfully imported into the United States on a permanent basis unless NHTSA decides that the vehicle is eligible for importation, based on its capability of being modified to conform to those standards. Under 49 U.S.C. 30141, the eligibility decision can be based on the nonconforming vehicle's substantial similarity to a vehicle of the same make, model, and model year that was manufactured for importation into, and sale in the United States, and certified as complying with all applicable FMVSS by its original manufacturer. Where there is no substantially similar U.S.-certified vehicle, the eligibility decision must be predicated on the vehicle having safety features that are capable of being modified to conform to the FMVSS, based on destructive crash test data or such other evidence that the agency may deem adequate. The agency makes import eligibility decisions either on its own initiative, or in response to petitions filed by RIs. In 2019, NHTSA received 28 import eligibility petitions. Of these, 25 were for vehicles with substantially similar U.S.-certified counterparts and 3 were for vehicles for which there were no substantially similar U.S. certified counterparts. In 2020, 8 import eligibility petitions were submitted to the agency. Of these, 4 were for vehicles with substantially similar U.S.-certified counterparts, and 4 were for vehicles for which there were no substantially similar U.S.-certified counterparts. In 2021, 11 import eligibility petitions were submitted to the agency. Of these, 9 were for vehicles with substantially similar U.S.-certified counterparts, and 2 were for vehicles for which there were no substantially similar U.S.-certified counterparts. Assuming this trend continues in future years, the agency estimates that roughly 16 import eligibility petitions will be submitted each year, 13 of which will be for vehicles with substantially similar U.S.-certified counterparts and 3 petitions will be for vehicles lacking substantially similar U.S.-certified counterparts.

5. Box 4: Importation of Vehicles or Equipment Intended Solely for Export

A nonconforming vehicle or equipment item that is intended solely for export, and bears a tag or label to that effect, can be entered under Box 4 on the HS-7 Declaration form. In 2019, 2020, and 2021, there were 13,797; 9,932, and 10,910 entries made under Box 4, respectively, for an average of 11,544.33. Based on this average, NHTSA estimates that, on average, there will be 12,000 entries under Box 4 in each of the next three years.

6. Box 5: Temporary Importation of Nonconforming Vehicles by Nonresidents of the United States

Under an international convention to which the United States is a signatory, a nonresident of the United States may import a nonconforming vehicle for personal use, for a period of up to one year, provided the vehicle is not sold while in the United States and is exported no later than one year from its date of entry. These vehicles are entered under Box 5 on the HS-7 Declaration form. To enter a vehicle under Box 5, the importer must also furnish Customs with the importer's passport number and the name of the country that issued the passport. In 2019, 2020, and 2021, there were 324, 157, and 176 entries made under Box 5, respectively, for an average of 219 entries per year. Based on this average, NHTSA estimates that, on average, there will be 220 entries made each year under Box 5.

7. Box 6: Temporary Importation of Nonconforming Vehicles by Foreign Diplomats

A member of the personnel of a foreign government on assignment in the United States, or a member of the secretariat of a public international organization so designated under the International Organizations Immunities Act, and within the class of persons for whom free entry of motor vehicles has been authorized by the Department of State, may temporarily import a nonconforming vehicle for personal use while in the United States pursuant to 49 CFR 591.5(h)(1) if the importer: (1) is importing the motor vehicle on a temporary basis for personal use and will register it through the Office of Foreign Missions of the Department of State; (2) will not sell the vehicle to any person in the United States, other than a person who is eligible to import a vehicle under Box 6; and (3) will obtain from the Office of Foreign Missions of the Department of State, before departing the United States at the conclusion of a tour of duty, an ownership title to the vehicle good for export only. These vehicles are entered under Box 6 on the HS-7 Declaration form. The importer must attach to the declaration a copy of the importer's official orders and provide Customs with the name of the embassy to which the importer is attached. In 2019, 2020, and 2021, there were 33, 24, and 40 entries made under Box 6, respectively, for an average of 32.33 entries per year. Based on this average, NHTSA estimates that, on average, 40 entries will be made under Box 6 in each of the next three years.

8. Box 7: Temporary Importation of Nonconforming Vehicles and Equipment

Certain vehicles and items of regulated motor vehicle equipment that do not conform with all applicable Federal motor vehicle safety standards may be imported under Box 7 for the purpose of research, investigations, demonstrations, training or competitive racing events. Under 49 U.S.C. 30114(a), NHTSA is authorized to exempt a motor vehicle or item of motor vehicle equipment for purposes of research, investigations, demonstrations, training, competitive racing events, show, or display. Such exemptions are made on such terms the agency decides are necessary from 49 U.S.C. 30112(a)(1), which prohibits the importation of nonconforming motor vehicles and items of motor vehicle equipment. Written permission from NHTSA is required to temporarily import a nonconforming motor vehicle or motor vehicle equipment item for one of the specified purposes unless the importer is a manufacturer of motor vehicles that are certified to the FMVSS. This information collection is being modified to reflect that NHTSA is requesting approval for a new information collection that will cover the information requirements associated with requesting permission to import a vehicle or item of equipment under box 7. With respect to Box 7 entries, this information collection will now only cover the declaration form for Box 7 entries and, in the case that written permission is not required, the importer's written statement. Under Part 591, declarations for importation under Box 7 that do not require to be accompanied by a permission letter from NHTSA must be accompanied by the importer's written statement, or by entering in electronic format information contained in the statement, into the U.S. Customs and Border Protection electronic data collection system, describing the use to be made of the vehicle or equipment item. If use on the public roads is an integral part of the purpose for which the vehicle or equipment item is imported, the statement shall describe the purpose which makes such use necessary, state the estimated period of time during which use of the vehicle or equipment item on the public roads is necessary, and state the intended means of final disposition (and disposition date) of the vehicle or equipment item after completion of the purpose for which it is imported. In 2019, there were 12,444 entries made under Box 7, of which 11,974 were made by certifying manufacturers not requiring permission from NHTSA and 470 were made by importers that received permission from NHTSA. In 2020, there were 6,131 entries made under Box 7, of which 5,716 were made by certifying manufacturers not requiring permission from NHTSA and 415 were made by importers that received permission from NHTSA. In 2021, there were 6,395 entries made under Box 7, of which 5,960 were made by certifying manufacturers not requiring permission from NHTSA and 435 were made by importers that received permission from NHTSA. Although there were, on average, 7,883.33 entries made under Box 7 in the last three years, NHTSA estimates that, on average, 10,000 entries will be made under Box 7 in each of the next three years. NHTSA estimates that 10,000 will be entries made without permission from NHTSA and 500 entries will be made with permission from NHTSA.

9. Box 8: Importation of Off-Road Vehicles

NHTSA regulates the importation of “motor vehicles,” which are defined, at 49 U.S.C. 30102, as vehicles that are driven or drawn by mechanical power and manufactured primarily for use on public streets, roads, and highways. Vehicles that are not primarily manufactured for on-road are not “motor vehicles” under this definition and are not subject to 49 U.S.C. 30112(a)(1) which prohibits the importation of motor vehicles that do not comply with all applicable FMVSS. Vehicles for off-road may, therefore, be imported without regard to their compliance with the FMVSS. These vehicles are entered under Box 8 on the HS-7 Declaration form. In 2019, 2020, and 2021 there were 673,323; 843,864; and 1,119,305 entries made under Box 8, respectively, with an average of 878,830.67 entries per year. However, because the number of entries under Box 8 increased over the last three years, NHTSA estimates that, on average, 1,200,000 entries will be made under Box 8 in each of the next three years. Declarations made under Box 8 must be accompanied by a statement substantiating the vehicle was not manufactured for use on the public roads, other than the equipment item was not manufactured for use on a motor vehicle or is not an item of motor vehicle equipment. Vehicles that may be imported under Box 8 include those that are originally manufactured for closed circuit racing. Although approval from NHTSA is not needed to import a vehicle that was originally manufactured for racing purposes, the agency will issue a letter recognizing that the vehicle was manufactured for off-road use if the importer requests the agency to do so. An application form that can be used to obtain such a letter is also posted to the agency's website at www.nhtsa.gov/cars/rules/import. In its last request for approval for this information collection, NHTSA estimated that it would receive approximately 13 applications each year. However, NHTSA received no applications to request letters recognizing that a vehicle was manufactured for off-road use in the years between 2017 and 2022. Based on this fact, NHTSA is lowering its estimate of the number applications NHTSA expects to receive in each of the next three years to 10.

10. Box 9: Importation of Vehicles or Equipment Requiring Further Manufacturing Operations

A motor vehicle or equipment item that requires further manufacturing operations to perform its intended function, other than the addition of readily attachable components such as mirrors or wipers, or minor finishing operations such as painting, may be entered under Box 9 on the HS-7 Declaration form. Declarations made under Box 9 must be accompanied with documentation from the manufacturer. If the declaration is for a vehicle, it must be accompanied by a copy of the Incomplete Vehicle Document, issued by the incomplete vehicle manufacturer, providing guidance on completing the vehicle so that it conforms to all applicable FMVSS. For an item of equipment, the declaration must be accompanied by a statement issued by the item's manufacturer identifying the applicable FMVSS to which the item does not conform and describing the further manufacturing required for the item to perform its intended function. In 2019, 2020, and 2021 there were 85,015; 67,295; and 85,562 entries made under Box 9, respectively, with an average of 79,290.67 entries per year. NHTSA estimates that, on average, 90,000 entries will be made under Box 9 in each of the next three years.

11. Box 10: Importation of Vehicles for Show or Display

Vehicles that have been granted exemption from NHTSA may be imported for purposes for show or display under Box 10. Under 49 U.S.C. 30114(a), NHTSA is authorized to exempt a motor vehicle or item of motor vehicle equipment for purposes of research, investigations, demonstrations, training, competitive racing events, show, or display from 49 U.S.C. 30112(a)(1) which prohibits the importation of nonconforming motor vehicles and items of motor vehicle equipment. Such exemptions are made on such terms the agency decides are necessary. With written permission, vehicles that are deemed by NHTSA to have sufficient technological or historical significance that they would be worthy of being exhibited in car shows if they were brought to the United States are eligible for importation for purposes of show or display under Box 10 on the HS-7 Declaration form. This information collection is being modified to reflect that NHTSA is requesting approval for a new information collection that will cover the information requirements associated with obtaining an exemption for show or display. For vehicles imported for show or display, this information collection will now only cover the declaration form for Box 10 entries. In 2019, 2020, and 2021 there were 30, 70, and 69 entries made under Box 10, respectively, with an average of 56.33 entries per year. Because the number of Box 10 entries has increased over the last three years, NHTSA estimates that, on average, 70 entries will be made under Box 10 in each of the next three years.

12. Box 11: Importation of Equipment Subject to the Theft Prevention Standard

Items of motor vehicle equipment that are marked in accordance with the Theft Prevention Standard in 49 CFR part 541 may be entered under Box 11 on the HS-7 Declaration form. In 2019, 2020, and 2021 there were 1,911,103; 1,693,295; and 1,285,783 entries made under Box 11, respectively, with an average of 1,630,060.33 entries per year. NHTSA estimates that, on average, 1,630,000 entries will be made under Box 11 in each of the next three years.

13. Box 12: Temporary Importation of Nonconforming Vehicles by Foreign Military Personnel

A member of the armed forces of a foreign country on assignment in the United States may temporarily import a nonconforming vehicle for personal use during the member's tour of duty under Box 12 on the HS-7 Declaration form pursuant to 49 CFR 591.5(h)(2) if they: (1) import the vehicle on a temporary basis for personal use; (2) certify that they will not sell the vehicle to any person in the States other than to a person eligible to import a vehicle under Box 12; (3) export the vehicle upon departing the United States at the conclusion of their tour of duty; and (4) attach a copy of their official orders. In 2019, 2020, and 2021 there were 139, 119, and 127 entries made under Box 12, respectively, with an average of 128.33 entries per year. Based on this average, NHTSA estimates that, on average, 130 entries will be made under Box 12 in each of the next three years.

14. Box 13: Importation of Vehicles to Prepare Import Eligibility Petitions

Nonconforming vehicles may be imported with a declaration under Box 13 for the purpose of preparing an import eligibility petition if the vehicle is imported by a registered importer that has received written permission from NHTSA to import the vehicle. RIs request permission to import vehicles under Box 13 to allow them to prepare a petition requesting that NHTSA determine that a particular make, model, and model year is eligible for importation under Box 3. In 2019, 2020, and 2021 there were 6, 10 and 5 entries made under Box 13, respectively, with an average of 7 entries per year. Based on this average, NHTSA estimates that, on average, 7 entries will be made under Box 13 in each of the next three years.

As noted above, a declaration under Box 13 must be accompanied by a permission letter from NHTSA. NHTSA has issued guidance to inform RIs that it will permit no more than two vehicles to be imported for the purpose of preparing an import eligibility petition. In 2019, 2020, and 2021 NHTSA received 10, 4, and 3 applications for permission to import a vehicle under Box 13, respectively, with an average of 5.67 entries per year. Based on this average, NHTSA estimates that, on average, it will receive, on average, 6 applications for importation under Box 13 in each of the next three years.

Information Collection Requirements for Registered Importers

In addition, to the information collection requirements discussed above regarding the importation of vehicles by Registered Importers, NHTSA has four other information collections related to its Registered Importer program. The additional information collections for the RI program include (1) information collected from applicants seeking status as RIs; (2) annual reporting requirements for RIs to retain their status; (3) recordkeeping requirements for RIs who issue conformity statement for modified vehicles; and (4) requests sent to manufacturers, in connection with the RI program, regarding compliance with FMVSS No. 138, Tire Pressure Monitoring Systems. The first three information collections affect applicants seeking status as RIs and existing RIs seeking to renew their registrations. The fourth affects manufacturers of Canadian-certified vehicles.

Under 49 U.S.C. 30141, a motor vehicle that was not originally manufactured to comply with all applicable FMVSS may not be lawfully imported into the United States on a permanent basis unless (1) NHTSA decides it is eligible for importation, based on its capability of being modified to conform to all applicable FMVSS and (2) it is imported by an RI or by a person who has a contract with an RI to modify the vehicle so that it complies with all applicable FMVSS following importation. 49 U.S.C. 30141(c) authorizes NHTSA to establish, by regulation, procedures for registering RIs. Those regulations are found in 49 CFR part 592.

1. Information Collected From Applicants

Under the terms of the regulations in part 592, an applicant for RI status must submit to the agency information (NHTSA Form 1481) that identifies the applicant, specifies the manner in which the applicant's business is organized (i.e., sole proprietorship, partnership, or corporation), and, depending on the form of organization, identifies the principals of the business. The application must also state that the applicant has never had a registration revoked and identify any principal previously affiliated with another RI. The application must also provide the street address and telephone number in the United States of each facility for the conformance, storage, and repair of vehicles that the applicant will use to fulfill its duties as an RI, including records maintenance, and the street address in the United States that it designates as its mailing address. The applicant must also furnish a business license or other similar document issued by a State or local authority authorizing it to do business as an importer, seller, or modifier of motor vehicles, or a statement that it has made a bona fide inquiry and is not required by any State or local authority to maintain such a license. The application must also set forth sufficient information to allow the Administrator to conclude that the applicant (1) is technically able to modify nonconforming vehicles to conform to applicable Federal motor vehicle safety and bumper standards, (2) owns or leases one or more facilities sufficient in nature and size to repair, conform, and store the vehicles for which it furnishes statements of conformity to NHTSA, (3) is financially and technically able to provide notification of and a remedy for a noncompliance with an FMVSS or a defect related to motor vehicle safety determined to exist in the vehicles it imports, and (4) is able to acquire and maintain information on the vehicles that it imports and the owners of those vehicles so that it can notify the owners if a safety-related defect or noncompliance is determined to exist in such vehicles. The application must also contain a statement that the applicant will abide by the duties of an RI and attest to the truthfulness and correctness of the information provided in the application. A brochure containing sample documents that an applicant may use in applying to become an RI is posted to the agency's website at https://www.nhtsa.gov/importing-vehicle/registered-importers#for-importers. In 2019, 2020 and 2021 NHTSA received 17, 14, and 18 applications for RI status, respectively, with an average of 16.33 applications submitted each year. Based on these figures, the agency estimates that it will receive 17 applications for RI status in each of the next three years.

2. Annual Reporting Requirement for Existing Registered Importers

To maintain registration, each RI must file an annual statement (NHTSA Form 1482) affirming that all information it has on file with the agency remains correct and that it continues to comply with the requirements for being an RI. Formats that existing RIs may use to renew their registrations are included in a newsletter sent electronically to each RI before the renewal is due and posted to the agency's website at https://www.nhtsa.gov/importing-vehicle/registered-importers#for-importers. In 2019, 2020, and 2021 NHTSA received 109, 115, and 111 renewal packages from existing RIs, respectively, with an average of 111.67 applications submitted each year. Because the number of renewal packages received has increased over the last three years, the agency estimates that it will receive 121 renewal packages in each of the next three years.

3. Notification of Business Change

Under 49 CFR 592.6(l), each RI must ensure that it notifies NHTSA in writing of any changes that occur in the information which was submitted in its registration application not later than the 30th calendar day after the change. An RI submits this notification using NHTSA Form 1483. In calendar years 2019, 2020, and 2021, NHTSA received 86, 78, and 61 such notifications, respectively, which reflects an annual average of approximately 75 notifications. NHTSA estimates that it will receive 75 notifications of RI business changes in each of the next three years.

4. Recordkeeping Requirements for Registered Importers

NHTSA's regulations, at 49 CFR 592.6(b), require RIs to maintain and retain certain specified records for each motor vehicle for which it furnishes a certificate of conformity to NHTSA, for a period of 10 years from the vehicle's date of entry. As described in the regulations, those records must consist of “correspondence and other documents relating to the importation, modification, and substantiation of certification of conformity to the Administrator.” The regulations further specify that the records to be retained must include (1) a copy of the HS-7 Declaration Form furnished for the vehicle at the time of importation, (2) all vehicle or equipment purchase or sales orders or agreements, conformance agreements with importers other than RIs, and correspondence between the RI and the owner or purchaser of each vehicle for which the RI furnishes a certificate of conformity to NHTSA, (3) the last known name and address of the owner or purchaser of each vehicle for which the RI furnishes a certificate of conformity, and the vehicle identification number (VIN) of the vehicle, and (4) records, both photographic and documentary, reflecting the modifications made by the RI, which were submitted to NHTSA to obtain release of the conformance bond furnished for the vehicle at the time of importation.³ The latter records are referred to as a “conformity package.” Most conformity packages submitted to the agency covering vehicles imported from Canada are comprised of approximately six sheets of paper (including a check-off sheet identifying the vehicle and the standards that it was originally manufactured to conform to and those that it was modified to conform to, a statement identifying the recall history of the vehicle, a copy of the HS-474 conformance bond covering the vehicle, and a copy of the mandatory service insurance policy obtained by the RI to cover its recall obligations for the vehicle). In addition, most conformity packages include photographs of the vehicle, components that were modified or replaced to conform the vehicle to applicable standards, and the certification labels affixed to the vehicle. In 2019, 2020, and 2021 there were 112, 121, and 121 active RIs, respectively. Based on this information, NHTSA estimates that there will be 121 active RIs in each of the next three years.

³ 49 CFR 592.6(b)(1) through (b)(4).

5. Information From Vehicle Manufacturers Regarding FMVSS No. 138 Compliance

As explained above, many of the vehicles determined to be eligible for importation under Box 3 are Canadian-market vehicles. Vehicles that are certified by its original manufacturer as complying with all applicable Canadian motor vehicle safety standards are one category that may be lawfully imported under Box 3, provided the vehicle was originally manufactured to comply with the U.S. version of any safety standard for which there is no Canadian counterpart or that differs from the Canadian version of the standard. One standard adopted by the United States that has not been adopted by Canada is FMVSS No. 138, “Tire Pressure Monitoring Systems (TPMS).” To assist Registered Importers in selecting vehicles that are eligible for importation, NHTSA publishes an RI Newsletter that lists Canadian-certified vehicles that were not originally manufactured to comply with FMVSS No. 138 and are therefore not eligible for importation into the United States. To aid in assembling this list, the agency requests information from the 20 major manufacturers that manufacture vehicles certified to the Canadian motor vehicle safety standards and offer substantially similar vehicles in the United States.

Affected Public: With regard to the HS-7 Declaration form, likely respondents include any private individual or commercial entity importing into the United States a vehicle or item of motor vehicle equipment subject to the Federal motor vehicle safety standards. There are also specific information collection for registered importers.

Estimated Number of Respondents: It is difficult to estimate, with reliability, the absolute number of respondents; however, that number would include: (1) the 121 RIs who are currently registered with NHTSA and import nonconforming vehicles under Boxes 3 and 13; (2) the estimated 2,600 individuals who will import Canadian-certified vehicles for personal use under Box 2B in each of the next three years; (3) the several hundred original manufacturers who import conforming motor vehicles and equipment items under Box 2A; nonconforming vehicles or equipment intended for export under Box 4; nonconforming vehicles and equipment on a temporary basis for purposes of research, investigations, or other reasons specified under Box 7; vehicles and equipment requiring further manufacturing operations under Box 9; and equipment subject to the Theft Prevention Standard under Box 11; (4) the several hundred dealers, distributors, and individuals who import off-road vehicles such as dirt bikes and all-terrain vehicles or ATVs, as well as other vehicles that are not primarily manufactured for on-road use under Box 8; and the several hundred nonresidents of the United States and foreign diplomatic and military personnel who temporarily import nonconforming vehicles for personal use under Boxes 5, 6, and 12. Using current entry information, NHTSA estimates that if every declaration (covering one or more entries) is submitted by a unique company or individual, the number of respondents for the HS-7 portion of the collection will be 6,257,145. The following Table includes estimates of the number of respondents for each of the 12 information collections.

Table 1—Number of Respondents
Information collection | Number of respondents
HS-7 Declarations | 6,257,145
Box 2B: Letters Requesting Confirmation from Manufacturers | 2,600
Box 2B: Confirmation Letters from Manufacturers | 2,600
HS-474 Forms for Box 3 Declarations | 121
Box 8: Request Letters | 10
Box 13: Request Letters | 6
RI Applications | 17
RI Renewal | 121
Conformity Packages | 121
Retention of RI Conformity Packages | 121
Import Eligibility Petitions | 16
Requests to Manufacturers Regarding Compliances of Canadian-Market Vehicles with FMVSS No. 138. | 20
Total | 6,262,908

Frequency: All information collections discussed in this document are collected on an as-needed basis except for the annual reporting requirement for Registered Importers.

Estimated Total Annual Burden Hours: To calculate the total burden hours associated with this information collection request, NHTSA estimated (1) the total number of declarations that will be filed, the total number of each type of supplemental document that will be filed with declarations, the total number of requests that will be made and, as applicable, responded to obtain documentation needed to import vehicle and equipment; and (2) the number of submissions for different collections that are part of the RI program. NHTSA then multiplied the total number of submissions by the average estimated burden time for each type of submission.

1. Declarations and Supplemental Documentation To Accompany Declarations

As stated above, NHTSA estimates the number of entries to be made with HS-7 declarations in each of the next three years to be 2,200,000 under Box 1; 8,100,000 under Box 2A; 2,600 under Box 2B; 300,120 under Box 3; 12,000 under Box 4; 220 under Box 5; 40 under Box 6; 10,500 under Box 7; 1,200,000 under Box 8; 90,000 under Box 9; 70 under Box 10; 1,630,000 under Box 11, 130 under Box 12; and 7 under Box 13. Therefore, NHTSA estimates that there will be a total of 13,845,807 entries made in each of the next three years.

NHTSA estimates that it takes approximately 5 minutes to fill out each declaration not including any supplemental information. The number of entries, however, is not equal to the number of declarations filed because multiple entries can be made using a single declaration form. This practice is most common for entries of vehicles and equipment under Box 2A. NHTSA estimates that the overwhelming majority of vehicles entered under Box 2A are imported by original manufacturers. These manufacturers do not file a separate HS-7 Declaration form for each conforming vehicle or item of equipment they import under Box 2A. Instead, they furnish NHTSA with a single declaration form, on a monthly basis, to which they attach a list of all vehicles, identified by make, model, model year, and vehicle identification number (VIN) and equipment, that were imported under Box 2A during that month. In this manner, it is not unusual for a single HS-7 Declaration form to be filed with the agency to cover the entry of many thousands of vehicles. NHTSA assumes that 90 percent of the vehicles imported and equipment under Box 2A will be imported in this manner, and that a manufacturer will, on average, report the entry of 5,000 vehicles or items of equipment on a single Declaration form. For the estimated 8,100,000 entries that will be made in the next three years, NHTSA estimates that 90% or 7,290,000 will be made by large manufacturers who will submit one declaration for, on average, 5,000 vehicles or items of equipment. Therefore, for these 7,290,000 entries, NHTSA estimates that there will only be 1,458 HS-7 declarations filed 7,290,000 ÷ 5,000). Accordingly, NHTSA estimates that there will be 811,458 Box 2A declarations filed in each of the next three years (1,458 + 810,000).

For all other entries, NHTSA estimates that individual declaration forms will be used, and it will take approximately 5 minutes to complete each declaration form, not including additional information. Accordingly, NHTSA estimates that 6,257,145 individual declaration forms will be filed and the burden with the declarations will be 521,429 hours ((6,257,145 × 5 minutes) ÷ 60 min./hr. = 521,228.75 hrs.). However, some declarations are estimated to take a little longer if they require the submission of any supplemental documentation.

As explained above, in additional to the HS-7 Declaration Form, importations of some motor vehicles and motor vehicle equipment require supplementation documentation to be submitted with the HS-7 Form at the time of entry. The required supplemental documentation includes: copies of manufacturer's confirmation letters for entries under Box 2B; copies of contracts with registered importers, as applicable for entries under Box 3; copies of official orders for entries under Box 6; statements made by certifying manufacturers or copies of permissions letters from NHTSA, as applicable for entries under Box 7; substantiating statements accompanying entries under Box 8; copies of incomplete vehicle documents for vehicles or a statement from the manufacturer for equipment imported under Box 9; copies of NHTSA permission letters for entries under Box 10; copies of official orders for entries under Box 12; and copies of NHTSA permission letters for entries under Box 13. Although many entries require submission of supplemental documentation, production of many of these documents is not expected to increase burden on respondents beyond the burden associated with the declaration because it merely requires production of documents the importer already has or NHTSA or another entity has provided the document, such as when entry must be accompanied by a NHTSA permission letter and the burden for requesting the document is accounted elsewhere. Of these supplemental documents, only the following are expected to increase burden associated with completing the HS-7 Declaration: statements made by certifying manufacturers for entries under Box 7 and substantiating statements accompanying entries under Box 8.

NHTSA estimates that in each of the next three years there will be approximately 10,000 entries under Box 7 for vehicles imported for research, investigations, demonstrations, or training by manufacturers of motor vehicles that are certified as complying with all applicable FMVSS. As explained above, these entries are required to be accompanied by a statement from the manufacturer. NHTSA estimates that preparation of this accompanying statement will take no more than 5 minutes. Therefore, NHTSA estimates the total burden associated with preparing accompanying statements for Box 7 entries to be 833 hours ((10,000 entries × 5 minutes) ÷ 60 min./hr. = 833.33 hours)).

NHTSA estimates that in each of the next three years there will be approximately 1,200,000 entries made under Box 8 for vehicles not originally manufactured for use on public roads and equipment that is not for use in motor vehicles. Entries under Box 8 must be accompanied by a statement substantiating that the vehicle was not manufactured primarily for use on public roads and is not a motor vehicle subject to the FMVSS or a statement substantiating that the equipment item is not a system, part, or component of a motor vehicle and therefore not an item of motor vehicle equipment. NHTSA estimates that preparation of this accompanying statement will take no more than 5 minutes. Therefore, NHTSA estimates the total burden associated with preparing accompanying statements for Box 8 entries to be 100,000 hours (1,200,000 entries × 5 minutes) ÷ 60 min./hr. = 100,000 hours)).

Accordingly, NHTSA estimates that the total burden associated with the estimated 6,257,145 HS-7 declarations that will be submitted each year is approximately 622,262 hours (521,428.75 + 833.33 hours +100,00 hours = 622,262.08 hours).

2. Requests for Manufacturer Confirmation Letters for 2B Entries

As explained above, before certain vehicles or equipment may be imported into the U.S. the importer must obtain permission from NHTSA or obtain documentation from the vehicle or equipment's manufacturer. To account for the burden associated with these requests, NHTSA has estimated the number of each requests that will be made in each of the next three years and, as applicable, the burden associated with responding to those requests. The following are different information collections associated with obtaining documentation required before importing vehicles into the U.S.: requests and responses to requests for manufacturer's confirmation letters for entries under Box 2B; requests for permission from NHTSA for entries under Box 7; requests for confirmation from NHTSA that a vehicle qualifies for entry under Box 8; requests for permission from NHTSA for entries under Box 10; and requests for permission from NHTSA for entries under Box 13. As explained above, NHTSA is requesting approval for a new information collection that will cover requests for permission for entry under Box 7 and 10 and, therefore, those requests will no longer be covered by this ICR.

As described above, NHTSA estimates that there will be 2,600 entries under Box 2B in each of the next three years. Accordingly, NHTSA also estimates that importers will send 2,600 requests to manufacturers for confirmation that the vehicle was certified as conforming to all applicable Canadian motor vehicle safety standards and conforms with all applicable U.S. Federal Motor Vehicle Safety, Bumper, and Theft Prevention Standards (or that it conforms to all such standards except for the labeling requirements of Standard Nos. 101 and 110 or 120, and/or the specifications of Standard No. 108 relating to daytime running lamps). NHTSA estimates that submitting such responses, which include information about the importer and the vehicle, will take no more than 5 minutes. Therefore, NHTSA estimates the total burden associated with requesting manufacturer confirmation letters to be submitted with Box 2B entries will be 217 hours ((2,600 requests × 5 minutes) ÷ 60 min./hr. = 216.66 hours)).

3. Confirmation Letters From Manufacturers for Box 2B Entries

NHTSA also estimates that manufacturers will send 2,600 confirmation letters in response to requests for confirmation that the vehicle was certified as conforming to all applicable Canadian motor vehicle safety standards and conforms with all applicable U.S. Federal Motor Vehicle Safety, Bumper, and Theft Prevention Standards (or that it conforms to all such standards except for the labeling requirements of Standard Nos. 101 and 110 or 120, and/or the specifications of Standard No. 108 relating to daytime running lamps). NHTSA estimates that responding to such requests will take no more than 10 minutes. Therefore, NHTSA estimates the total burden associated with requesting and producing manufacturer confirmation letters to be submitted with Box 2B entries will 433 hours ((2,600 requests × 10 minutes) ÷ 60 min./hr. = 433.33 hours)).

4. Box 8 Request Letters

NHTSA estimates that in each of the next three years, NHTSA will receive approximately 10 requests from importers for letters from NHTSA confirming that the vehicle they seek to import qualifies under Box 8 as a vehicle that was not manufactured primarily for use on the public roads. NHTSA estimates that it will take approximately 5 minutes to fill out the form to request such confirmation from NHTSA. Therefore, NHTSA estimates that the burden associated with Box 8 requests will be 1 hour per year. ((10 requests × 5 minutes) ÷ 60 min./hr. = .83 hours)).

5. HS-474 Forms To Accompany Box 3 Entries

NHTSA estimates that in each of the next three years there will be approximately 310,120 entries made under Box 3 that will be accompanied by HS-474 Forms. NHTSA estimates that completion of the HS-474 Form takes approximately 6 minutes. Therefore, the burden associated with completion of the forms is estimated to be 30,012 hours per year (300,120 HS-474 Forms × 6 minutes) ÷ 60 min./hr. = 30,012 hours)).

6. Box 13 Request Letters

NHTSA estimates that in each of the next three years, NHTSA will receive approximately 6 requests from RIs for permission to import a vehicle under Box 13 that does not conform to all applicable FMVSS and Bumper Standards conforms to applicable Federal Theft Prevention Standards and that RI has petitions or will petition NHTSA for a determination that the vehicle is eligible for importation. NHTSA estimates that submitting each request will take approximately 5 minutes and the total burden associated with submitting Box 13 requests will be 1 hour per year. (6 Requests Letters × 5 minutes) ÷ 60 min./hr. = .5 hour)).

7. Registered Importer Applications

In order for an entity to gain status as a RI, it must first submit an application package to NHTSA. NHTSA estimates that it will take up to ten hours to compile and assemble the material needed to support a single application. As explained above, NHTSA estimates that it will receive 17 applications in each of the next three years from entities seeking to become RIs. Therefore, the agency estimates that 170 hours will be expended in this activity for each of the next three years (17 applications × 10 hours).

8. Registered Importer Annual Reports

Once an entity becomes a RI, it must submit annual reports to retain its status as an RI. NHTSA estimates that 121 RIs will submit the required information each year and estimates that each submission will take approximately 2 hours. Therefore, NHTSA estimates the total burden associated with RI renewal reporting to be 242 hours (121 renewals × 2 hours).

9. Registered Importer Notification of Business Change

Each RI must ensure that it notifies NHTSA in writing of any changes that occur in the information which was submitted in its registration application not later than the 30th calendar day after the change. NHTSA estimates that RIs will submit a total of 75 such notifications in each of the next three years, and that each submission will take approximately 10 hours. Therefore, NHTSA estimates the total burden associated with notifications of business changes to be 750 hours (75 applications × 10 hours).

10. Conformity Packages

Once an entity becomes an RI, it may begin importing nonconforming vehicles under Box 3. For each vehicle imported under Box 3, the RI must submit a conformity package to NHTSA certifying that the vehicle has been brought into compliance with all applicable Federal motor vehicle safety and bumper standards, supported by photographic and documentary evidence of the modification performed to achieve conformity. Because the Canadian motor vehicle safety standards are identical in most respects to the FMVSS, there are relatively few modifications that need to be performed on a Canadian-certified vehicle to conform it to the FMVSS and the conformity packages that are submitted on these vehicles are considerably less comprehensive than those submitted for vehicles from Europe, Japan, and other foreign markets. The agency estimates that it would take the average RI no more than 30 minutes to collect information for, and assemble, a conformity package for a Canadian-certified vehicle. NHTSA estimates that in each of the next three years, it will receive conformity packages for approximately 300,000 Canadian-market vehicles imported under Box 3. Therefore, NHTSA estimates the burden associated with these conformity packages to be 150,000 hours (300,000 conformity packages × .5 hours).

Generally, more modifications are needed to conform a non-Canadian vehicle to the FMVSS. To properly document these modifications, more information must be included in the conformity package for a non-Canadian vehicle than is required for a Canadian-certified vehicle. The agency estimates that it would take an RI approximately twice as long, or roughly one hour, to compile information for, and assemble, a conformity package for a typical non-Canadian vehicle. NHTSA estimates that in each of the next three years, it will receive conformity packages for approximately 120 vehicles imported under Box 3 that are not Canadian-market vehicles. Therefore, NHTSA estimates the burden associated with these conformity packages to be 120 hours (120 conformity packages × 1 hour).

Accordingly, NHTSA estimates the total burden associated with conformity packages is approximately 150,120 hours (150,000 hours + 120 hours).

11. Retention of Conformity Packages

Beginning in March of 2020, 100% of conformity packages submitted to the agency have been submitted electronically. The additional burden imposed by a requirement to store electronic records that were already required to be prepared electronically is negligible.

12. Eligibility Petitions

RIs that are interested in importing a particular model of vehicle under Box 3 that is not currently eligible to import may petition NHTSA for a determination that the vehicle is eligible for importation because it can be modified to meet the Federal standards. The agency estimates that it would take the typical RI that petitions the agency roughly two hours to complete the paperwork associated with the submission of a petition for a vehicle that has a substantially similar U.S.-certified counterpart, and roughly twice as long, or four hours, to complete the paperwork associated with the submission of a petition for a vehicle that lacks a substantially similar U.S.-certified counterpart. NHTSA estimates that in each of the next three years it will receive 13 import eligibility petitions for vehicles that have a substantially similar U.S.-certified counterpart and 3 petitions for vehicles that do not have a substantially similar U.S.-certified counterpart. Therefore, NHTSA estimates the burden associated with these petitions to be 38 hours, consisting of 26 hours (13 petitions × 2 hours) and 12 hours (3 petitions × 4 hours) for vehicles with a substantially similar counterpart and for those without, respectively.

13. Requests to Manufacturers Regarding Compliance With FMVSS No. 138

As explained above, to assist Registered Importers in selecting vehicles that are eligible for importation, NHTSA requests information from the 20 major manufacturers that manufacture vehicles certified to the Canadian motor vehicle safety standards and offer substantially similar vehicles in the United States about compliance with FMVSS No. 138. These manufacturers are asked to identify, by model and model year, such vehicles that were not originally manufactured with a TPMS that met FMVSS No. 138, or for which a FMVSS No. 138-compliant TPMS was only available as optional equipment. NHTSA estimates that it takes each of these manufacturers two hours to prepare the requested list, resulting in an annual expenditure for the entire industry of 40 hours to comply with the agency's requests.

Labor Costs

NHTSA estimates the annual labor cost associated with the burden hours for the collections using an appropriate average hourly labor rate for clerical personnel, primarily licensed customs brokers, who will be filing the HS-7 Declaration and related documentation and accounting for non-wage compensation. NHTSA calculated a loaded hourly labor cost by (1) using the average hourly wage of $38.10 for “Business Operations Specialists, All Other,” Occupation Code 13-1199, published by the Bureau of Labor Statistics,⁴ (2) dividing by 0.704 (70.4%) to obtain the total compensation rate for private industry workers,⁵ and (3) multiplying by the estimated labor hours. Therefore, the hourly burden cost associated with the burden hours is estimated to be $54.10 and the total labor cost associated with the 798,534 hours is $43,216,664.59. The estimated burden hours and associated labor costs are shown in Table 2 below.

⁴ May 2021 National Occupational Employment and Wage Estimates, United States. Business Operations Specialists, All Other, Occupation Code 13-1199. https://www.bls.gov/oes/2021/may/oes_nat.htm. Accessed May 6, 2022.

⁵ See Table 1 at https://www.bls.gov/news.release/archives/ecec_06172021.pdf. Accessed May 6, 2020.

Table 2—Estimated Labor Hours and Associated Labor Costs
Information collection | Number of responses (number of respondents) | Average burden per response | Hourly labor cost | Total labor cost per response | Total labor cost | Total burden hours
HS-7 Declaration | 6,257,145 (6,257,145) | 5.97 minutes | $54.12 | $5.38 | $33,676,824.00 | 622,262
Requests for Manufacturer Confirmation Letters for Box 2B Entries | 2,600 (2,600) | 5 minutes | 54.12 | 4.52 | 11,744.04 | 217
Confirmation Letters from Manufacturers for Box 2B Entries | 2,600 (2,600) | 10 minutes | 54.12 | 9.01 | 23,433.96 | 433
Box 8 Request Letters | 10 (10) | 5 minutes | 54.12 | 5.41 | 54.12 | 1
HS-474 Forms | 300,120 (121) | 5 minutes | 54.12 | 4.51 | 1,353,541.20 | 25,010
Box 13 Request Letters | 6 (6) | 5 minutes | 54.12 | 9.02 | 54.12 | 1
Registered Importer Applications | 17 (17) | 10 hours | 54.12 | 541.20 | 9,200.40 | 170
Registered Importer Annual Reports | 121 (121) | 2 hours | 54.12 | 108.24 | 13,097.04 | 242
Registered Importer Notification of Business Changes | 75 (121) | 10 hours | 54.12 | 541.20 | 40,590 | 750
RI Conformity Packages | 300,120 (121) | 30 minutes | 54.12 | 27.07 | 8,124,494.40 | 150,120
Retention of RI Conformity Packages | 121 (121) | 0 minutes | 0.00 | 0.00 | 0.00 | 0
RI Eligibility Petitions | 16 (16) | 2.38 hours | 54.12 | 128.48 | 2,056.56 | 38
Requests to Manufacturers Regarding FMVSS No. 138 | 20 (20) | 2 hours | 54.12 | 108.25 | 2,164.80 | 40
Total |  |  |  |  | 43,257,254.64 | 799,284

Estimated Total Annual Burden Cost: Other than the cost of the burden hours, the only additional costs associated with this information collection are the annual cost to the industry for the storage of records pertaining to the nonconforming vehicles that each RI imports into the United States. RIs are required under 49 CFR 592.6(b) to maintain and retain certain specified records for each motor vehicle for which it furnishes a certificate of conformity to NHTSA, for a period of 10 years from the vehicle's date of entry. As described in the regulations, those records must consist of “correspondence and other documents relating to the importation, modification, and substantiation of certification of conformity to the Administrator.” The regulations further specify that the records to be retained must include (1) a copy of the HS-7 Declaration Form furnished for the vehicle at the time of importation, (2) all vehicle or equipment purchase or sales orders or agreements, conformance agreements with importers other than RIs, and correspondence between the RI and the owner or purchaser of each vehicle for which the RI furnishes a certificate of conformity to NHTSA, (3) the last known name and address of the owner or purchaser of each vehicle for which the RI furnishes a certificate of conformity, and the vehicle identification number (VIN) of the vehicle, and (4) records, both photographic and documentary, reflecting the modifications made by the RI, which were submitted to NHTSA to obtain release of the conformance bond furnished for the vehicle at the time of importation. See 49 CFR 592.6(b)(1) through (b)(4). The latter records are referred to as a “conformity package.” Most conformity packages submitted to the agency covering vehicles imported from Canada are comprised of approximately six sheets of paper (including a check-off sheet identifying the vehicle and the standards that it was originally manufactured to conform to and those that it was modified to conform to, a statement identifying the recall history of the vehicle, a copy of the HS-474 conformance bond covering the vehicle, and a copy of the mandatory service insurance policy obtained by the RI to cover its recall obligations for the vehicle). In addition, most conformity packages include photographs of the vehicle, components that were modified or replaced to conform the vehicle to applicable standards, and the certification labels affixed to the vehicle. Because these records are prepared and submitted electronically, and ultimately stored electronically, there is no additional burden attributable to the recordkeeping requirement.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Issued on July 8, 2022.
Otto G. Matheke, III,
Director, Office of Vehicle Safety Compliance.

[FR Doc. 2022-14938 Filed 7-12-22; 8:45 am]

BILLING CODE 4910-59-P